DEPARTMENT OF COMMERCE

National Oceanic and Atmospheric Administration

[I.D. 020801B]

Pacific Fishery Management Council; Public Meeting

AGENCY: National Marine Fisheries Service (NMFS), National Oceanic and Atmospheric Administration (NOAA), Commerce.

ACTION: Notice of public meeting.

SUMMARY: The Pacific Fishery Management Council's (Council) Coastal Pelagic Species Management Team (CPSMT) and Coastal Pelagic Species Advisory Subpanel (CPSAS) will hold a joint work session, which is open to the public.

DATES: The CPSMT and CPSAS will meet on Friday, March 9, 2001, from 8 a.m. until business for the day is completed.

ADDRESSES: The work session will be held in the Deschutes Room at the DoubleTree Hotel - Columbia River, 1401 N. Hayden Island Drive, Portland, OR 97217; (503) 283-2111.

Council address: Pacific Fishery Management Council, 2130 SW Fifth Avenue, Suite 224, Portland, OR 97201.

FOR FURTHER INFORMATION CONTACT: Dan Waldeck, Pacific Fishery Management Council; (503) 326-6352.

SUPPLEMENTARY INFORMATION: The primary purpose of this meeting is to continue work on several issues relative to capacity in the finfish limited entry fishery. This work is in response to a Council request for the CPSMT and CPSAS to develop recommendations for a capacity goal for the limited entry fishery and several other capacity-related issues, including transferability of limited entry permits. The CPSMT and CPSAS are scheduled to provide their recommendations to the Council at the April 2001 Council meeting.

Although non-emergency issues not contained in the CPSMT/CPSAS meeting agenda may come before the CPSMT and/or CPSAS for discussion, those issues may not be the subject of formal CPSMT nor CPSAS action during these meetings. CPSMT and/or CPSAS action will be restricted to those issues specifically listed in this document and any issues arising after publication of this document that require emergency action under section 305(c) of the Magnuson-Stevens Fishery Conservation and Management Act, provided the public has been notified of the CPSMT's and/or CPSAS's intent to take final action to address the emergency.

Special Accommodations

The meeting is physically accessible to people with disabilities. Requests for sign language interpretation or other auxiliary aids should be directed to Ms. Carolyn Porter at (503) 326-6352 at least 5 days prior to the meeting date.

Dated: February 9, 2001.
Richard W. Surdi,
Acting Director, Office of Sustainable Fisheries, National Marine Fisheries Service.

[FR Doc. 01-3773 Filed 2-13-01; 8:45 am]

BILLING CODE 3510-22-S